Proclamation 9534 of October 31, 2016

National Alzheimer's Disease Awareness Month, 2016

By the President of the United States of America

A Proclamation

A heartbreaking disease present in more than 5 million Americans, Alzheimer's is the most common form of dementia and causes people to lose many of the critical abilities they need to live independently. Too often, those suffering from Alzheimer's cannot recognize their loved ones or remember how to perform daily tasks, struggling physically and mentally with things that once came naturally. Although we have long known Alzheimer's to be irreversible and fatal, we maintain hope that by advancing research and treatment options we can work to change these outcomes and ensure brighter prospects for all those who face this disease. During National Alzheimer's Disease Awareness Month, we resolve to continue working toward this brighter future as we stand with every person battling, Alzheimer's and their loved ones.

Alzheimer's disease is more likely to affect Americans as they grow older—although genetics can also play a role, age is the most significant risk factor. But Alzheimer's touches many more individuals than simply those who are diagnosed. Dedicated caregivers—whether professionals, family members, or friends—are also emotionally, physically, and financially affected by Alzheimer's disease, giving of themselves to ensure those who face it are not alone. And because these individuals need access to information and resources in order to provide this essential care, we launched www.Alzheimers.gov to give them a place to find help.

Through the National Plan to Address Alzheimer's Disease, my Administration has been working to meet a goal of being able to prevent and effectively treat this illness by 2025. Over the past year we have taken a number of actions to reach this vision, including developing a training curriculum that gives health care workers the necessary skills to care for dementia patients and better detect and diagnose dementia. We have also helped family caregivers look after their own health, in addition to addressing the needs of people with dementia, and launched a campaign to increase awareness of changes in the brain as people age so that older adults feel more comfortable having open conversations with family members and health care providers.

In addition to ensuring anyone with Alzheimer's can access proper care, we must harness the innovative ideas of the scientific community and work to prevent this disease. To ramp up research and development aimed at uncovering the answers to diseases like Alzheimer's, I have increased funding for research dedicated to understanding, preventing, and curing Alzheimer's and related dementias. I also introduced the Brain Research through Advancing Innovative Neurotechnologies Initiative, which will enhance our understanding of brain function and give scientists the tools they need to better understand and discover new ways to treat, cure, and prevent brain disorders. And through a bold new research effort that seeks to deliver personalized care through patient-centered research and collaboration, my Precision Medicine Initiative is working to revolutionize our understanding of diseases like Alzheimer's.

From researchers and advocates who are bringing us closer to preventing this disease to family members who devotedly look after their loved ones, people across our country are doing their part to support those touched by Alzheimer's. This month, let us honor those we have lost too soon and renew our efforts to ensure more Americans can live their lives with health and happiness.

NOW, THEREFORE, I, BARACK OBAMA, President of the United States of America, by virtue of the authority vested in me by the Constitution and the laws of the United States, do hereby proclaim November 2016 as National Alzheimer's Disease Awareness Month. I call upon the people of the United States to learn more about Alzheimer's disease and support the individuals living with this disease and their caregivers.

IN WITNESS WHEREOF, I have hereunto set my hand this thirty-first day of October, in the year of our Lord two thousand sixteen, and of the Independence of the United States of America the two hundred and forty-first.

[FR Doc. 2016-26801

Filed 11-2-16; 11:15 am]

Billing code 3295-F7-P